POSTAL REGULATORY COMMISSION

[Docket No. MC2011-20; Order No. 668]

New Postal Product

AGENCY: Postal Regulatory Commission.

ACTION: Notice.

SUMMARY: The Commission is noticing a recently-filed Postal Service request concerning a classification change to the Reply Rides Free program.

DATES: Comments are due: February 18, 2011.

ADDRESSES: Submit comments electronically by accessing the “Filing Online” link in the banner at the top of the Commission's Web site (http://www.prc.gov) or by directly accessing the Commission's Filing Online system at https://www.prc.gov/prc-pages/filing-online/login.aspx. Commenters who cannot submit their views electronically should contact the person identified in FOR FURTHER INFORMATION CONTACT section as the source for case-related information for advice on alternatives to electronic filing.

FOR FURTHER INFORMATION CONTACT: Stephen L. Sharfman, General Counsel, at 202-789-6820 (case-related information) or DocketAdmins@prc.gov (electronic filing assistance).

SUPPLEMENTARY INFORMATION: On February 8, 2011, the Postal Service filed a notice of classification change pursuant to 39 CFR 3020.90 and 3020.91 concerning the Reply Rides Free program.¹ The classification change relaxes the minimum qualification requirement for First-Class Mail letters participating in the program from a requirement to mail under the full-service Intelligent Mail option to a requirement to mail under the basic Intelligent Mail option. In Docket No. R2011-1, the Postal Service stated a May 1, 2011 effective date for the original requirement. This effective date also is applicable to the new requirement.

¹ Notice of the United States Postal Service of Classification Change Related to Reply Rides Free Program, February 8, 2011 (Notice).

The Commission establishes Docket No. MC2011-20 for consideration of matters related to the proposed classification change identified in the Postal Service's Notice.

Interested persons may submit comments on whether the Postal Service's request is consistent with the policies of 39 U.S.C. 3642 and generally with the provisions of title 39. Comments are due no later than February 18, 2011. The Postal Service's Notice can be accessed via the Commission's Web site (http://www.prc.gov).

The Commission appoints Diane K. Monaco to serve as Public Representative in the captioned proceeding.

It is ordered:

1. The Commission establishes Docket No. MC2011-20 for consideration of matters raised by the Postal Service's Notice.

2. Comments by interested persons are due no later than February 18, 2011.

3. Pursuant to 39 U.S.C. 505, Diane K. Monaco is appointed to serve as the officer of the Commission (Public Representative) to represent the interests of the general public in this proceeding.

4. The Secretary shall arrange for publication of this Order in the Federal Register.

By the Commission.
Ruth Ann Abrams,
Acting Secretary.

[FR Doc. 2011-3468 Filed 2-15-11; 8:45 am]

BILLING CODE 7710-FW-P